DEPARTMENT OF COMMERCE

Foreign-Trade Zones Board

[B-75-2019]

Foreign-Trade Zone (FTZ) 277—Western Maricopa County, Arizona; Notification of Proposed Production Activity; Ball Metal Beverage Container Corporation (Aluminum Cans and Briquettes); Goodyear, Arizona

Ball Metal Beverage Container Corporation (Ball) submitted a notification of proposed production activity to the FTZ Board for its facility in Goodyear, Arizona. The notification conforming to the requirements of the regulations of the FTZ Board (15 CFR 400.22) was received on December 5, 2019.

The Ball facility is located within FTZ 277. The facility is used for the production of aluminum cans and briquettes. Pursuant to 15 CFR 400.14(b), FTZ activity would be limited to the specific foreign-status component and specific finished products described in the submitted notification (as described below) and subsequently authorized by the FTZ Board.

Production under FTZ procedures could exempt Ball from customs duty payments on the foreign-status component used in export production. On its domestic sales, for the foreign-status component noted below, Ball would be able to choose the duty rates during customs entry procedures that apply to: Aluminum cans; can ends and lids; and, aluminum briquettes (duty rate ranges from duty free to 5.7%). Ball would be able to avoid duty on the foreign-status component which becomes scrap/waste. Customs duties also could possibly be deferred or reduced on foreign-status production equipment.

The component/material sourced from abroad is coils of aluminum alloy sheets (duty rate 3%). The request indicates that the coils of aluminum alloy sheets are subject to special duties under Section 232 of the Trade Expansion Act of 1962 (Section 232) and Section 301 of the Trade Act of 1974 (Section 301), depending on the country of origin. The applicable Section 232 and Section 301 decisions require subject merchandise to be admitted to FTZs in privileged foreign status (19 CFR 146.41).

Public comment is invited from interested parties. Submissions shall be addressed to the Board's Executive Secretary and sent to: ftz@trade.gov. The closing period for their receipt is January 27, 2020.

A copy of the notification will be available for public inspection in the “Reading Room” section of the Board's website, which is accessible via www.trade.gov/ftz.

For further information, contact Diane Finver at Diane.Finver@trade.gov or (202) 482-1367.

Dated: December 6, 2019.
Elizabeth Whiteman,
Acting Executive Secretary.

[FR Doc. 2019-27228 Filed 12-17-19; 8:45 am]

BILLING CODE 3510-DS-P